SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before July 23, 2001.

ADDRESSES: Send all comments regarding whether this information collection is necessary for the proper performance of the function of the agency, whether the burden estimate is accurate, and if there are ways to minimize the estimated burden and enhance the quality of the collection, to Jonathan R. Pawlow, Assistant Chief Counsel, Office of Advocacy, Small Business Administration, 409 3rd Street, SW., Suite 7800, Washington DC 20416.

FOR FURTHER INFORMATION CONTACT: Jonathan R. Pawlow, Assistant Chief Counsel, (202) 205-6951 or Curtis B. Rich, Management Analyst, (202) 205-7030.

SUPPLEMENTARY INFORMATION: Title: Evaluation of State Efforts to Review and Alleviate State Regulatory Burdens on Small Business.

Form No: N/A.

Description of Respondents: The Office of Advocacy is surveying states to gain a better understanding of what states are doing to help small businesses overcome state regulatory hurdles.

Annual Responses: 130.

Annual Burden: 120.

Jacqueline White,
Chief, Administrative Information Branch.

[FR Doc. 01-12827 Filed 5-21-01; 8:45 am]

BILLING CODE 8025-01-P